DEPARTMENT OF ENERGY

10 CFR Part 430

[Docket Number EERE-2007-BT-TP-0013]

RIN 1904-AB72

Energy Conservation Program: Test Procedures for General Service Fluorescent Lamps, Incandescent Reflector Lamps, and General Service Incandescent Lamps; Correction

AGENCY: Office of Energy Efficiency and Renewable Energy, Department of Energy.

ACTION: Final rule; technical amendments.

SUMMARY: This document contains a technical correction to the final rule regarding the test procedures for general service fluorescent lamps, incandescent reflector lamps, and general service incandescent lamps, which was published in the Federal Register on July 6, 2009. In that final rule, the U.S. Department of Energy (DOE) adopted amendments to its test procedure regulations for the above-specified lamps. However, due to a drafting error, part of the original wording was inadvertently removed from the DOE test procedure regulations in the Code of Federal Regulations (CFR). This final rule addresses this issue and restores the correct and complete language to the regulations.

DATES: Effective on April 28, 2010.

FOR FURTHER INFORMATION CONTACT: Ms. Linda Graves, U.S. Department of Energy, Office of Energy Efficiency and Renewable Energy, Building Technologies Program, EE-2J, 1000 Independence Avenue, SW., Washington, DC, 20585-0121. Telephone: (202) 586-1851. E-mail: Linda.Graves@ee.doe.gov.

Mr. Eric Stas, U.S. Department of Energy, Office of the General Counsel, GC-71, 1000 Independence Avenue, SW., Washington, DC, 20585. Telephone: (202) 586-9507. E-mail: mailto:Eric.Stas@hq.doe.gov.

SUPPLEMENTARY INFORMATION:

I. Background

On July 6, 2009, DOE's Office of Energy Efficiency and Renewable Energy published a test procedure final rule in the Federal Register titled, “Test Procedures for General Service Fluorescent Lamps, Incandescent Reflector Lamps, and General Service Incandescent Lamps” (hereafter referred to as the “July 2009 final rule”). 74 FR 31829. Since the publication of that rule, it has come to DOE's attention that, due to a technical oversight, a certain part of the July 2009 final rule incorrectly amended a section of the DOE regulations that specified which units should be tested to demonstrate compliance with energy conservation standards. Specifically, 10 CFR 430.24(r)(1) was amended to include general service incandescent lamps, but existing details specifying requirements for manufacturer sampling of units were inadvertently removed. These existing details were previously adopted in a published test procedure final rule titled, “Fluorescent and Incandescent Lamp Test Procedures” (hereafter the “May 1997 final rule”). 62 FR 29222, 29239-40 (May 29, 1997). Today's final rule revises the relevant section to include the correct information.

II. Summary of This Action

As published, the July 2009 final rule contains an incomplete unit sampling procedure for general service fluorescent lamps, incandescent reflector lamps, and general service incandescent lamps. The purpose of the sampling procedure is to specify which units manufacturers of these lamps must test to demonstrate compliance with the applicable energy conservation standards. To correct this error, DOE is amending 10 CFR 430.24(r)(1) to again include the relevant language from the May 1997 final rule.

III. Final Action

Section 553 of Title 5, U.S. Code, (5 U.S.C. 553) generally requires agencies to provide prior notice and an opportunity for public comment on substantive rules. The requirement does not apply, however, if the agency determines that notice and opportunity for public comment can be waived for good cause if such procedures are “impracticable, unnecessary, or contrary to the public interest.” DOE finds that good cause exists for dispensing with notice and opportunity for public comment in issuing today's rule. It was clearly not DOE's intention to change or eliminate the sampling requirements for general service fluorescent lamps, general service incandescent lamps, or incandescent reflector lamps. At no place in the July 2009 final rule (or the notice of proposed rulemaking that preceded it) did DOE discuss such a modification. The change in the code language was inadvertent and is currently in need of correction in order to facilitate manufacturer compliance testing. For these reasons, DOE finds that prior notice or an opportunity for comment are unnecessary, and has characterized today's rule as a “technical correction” in the ACTION line at the beginning of this notice.

IV. Procedural Requirements

DOE has concluded that the determinations made pursuant to the various procedural requirements applicable to the July 6, 2009 test procedure final rule remain unchanged for this final rule technical correction. These determinations are set forth in the July 6, 2009 final rule. 74 FR 31829, 31838-40.

List of Subjects in 10 CFR Part 430

Administrative practice and procedure, Confidential business information, Energy conservation, Household appliances, Imports, Incorporation by reference, Intergovernmental relations, Small businesses.

For the reasons stated in the preamble, part 430 of chapter II of title 10, Code of Federal Regulations, is corrected by making the following correcting amendments:

PART 430—ENERGY CONSERVATION PROGRAM FOR CONSUMER PRODUCTS

1. The authority citation for part 430 continues to read as follows:

Authority: 42 U.S.C. 6291-6309; 28 U.S.C. 2461 note.

2. Section 430.24 is amended by revising paragraph (r)(1) to read as follows

§ 430.24 Units to be tested.

* * * * *

(r)(1) For each basic model of general service fluorescent lamp, general service incandescent lamp, and incandescent reflector lamp, samples of production lamps shall be tested and the results for all samples shall be averaged for a 12-month period. A minimum sample of 21 lamps shall be tested. The manufacturer shall randomly select a minimum of three lamps from each month of production for a minimum of 7 out of the 12-month period. In the instance where production occurs during fewer than 7 of such 12 months, the manufacturer shall randomly select 3 or more lamps from each month of production, where the number of lamps selected for each month shall be distributed as evenly as practicable among the months of production to attain a minimum sample of 21 lamps. Any represented value of lamp efficacy of a basic model shall be based on the sample and shall be no greater than the lower of the mean of the sample or the lower 95-percent confidence limit of the true mean (XL) divided by 0.97, i.e.,

where:

x̄ = the mean luminous efficacy of the sample

s = the sample standard deviation

t0.95 = the t statistic for a 95-percent confidence limit for n-1 degrees of freedom (from statistical tables)

n = sample size

* * * * *

Issued in Washington, DC on April 22, 2010.
Cathy Zoi,
Assistant Secretary, Energy Efficiency and Renewable Energy.

[FR Doc. 2010-9830 Filed 4-27-10; 8:45 am]

BILLING CODE 6450-01-P